GENERAL SERVICES ADMINISTRATION

41 CFR Part 102-42

[FMR Amendment B-1]

RIN 3090-AH53

Change in Consumer Price Index Minimal Value

AGENCY: Office of Governmentwide Policy, GSA.

ACTION: Final rule.

SUMMARY: Public Law 95-105 (5 U.S.C. 7342) requires that at 3-year intervals following January 1, 1981, minimal value be redefined by the Administrator of General Services, after consultation with the Secretary of State, to reflect changes in the Consumer Price Index for the immediately preceding 3-year period. The required consultation has been completed and the minimal value has been increased to mean $285 or less as of January 1, 2002. This final rule also changes the meaning of sale price of foreign gifts and decorations to an employee by removing the requirement of including the cost of the appraisal in the sale price. The sale price is derived from only the commercially appraised value.

DATES: Effective Date: This final rule is effective January 1, 2002.

FOR FURTHER INFORMATION CONTACT: Mr. Robert Holcombe, Director, Personal Property Management Policy Division, General Services Administration, 202-501-3846. For information pertaining to status or publication schedules, contact the Regulatory Secretariat, Room 4035, GS Building, Washington, DC, 20405, (202) 208-7312. Please cite FMR Amendment B-1.

SUPPLEMENTARY INFORMATION:

A. Executive Order 12866

The General Services Administration (GSA) has determined that this final rule is not a significant regulatory action for the purposes of Executive Order 12866 of September 30, 1993.

B. Regulatory Flexibility Act

This final rule is not required to be published in the Federal Register for notice and comment; therefore, the Regulatory Flexibility Act does not apply.

C. Paperwork Reduction Act

The Paperwork Reduction Act does not apply because this final rule does not impose recordkeeping or information collection requirements, or the collection of information from offerors, contractors, or members of the public which require the approval of the Office of Management and Budget (OMB) under 44 U.S.C. 3501, et seq.

D. Small Business Regulatory Enforcement Fairness Act

This final rule is also exempt from Congressional review prescribed under 5 U.S.C. 801 since it relates solely to agency management and personnel.

List of Subjects in 41 CFR Part 102-42

Excess government property, Government property management.

For the reasons set forth in the preamble, 41 CFR part 102-42 is amended as follows:

PART 102-42—UTILIZATION, DONATION, AND DISPOSAL OF FOREIGN GIFTS AND DECORATIONS

1. The authority citation for part 102-42 continues to read as follows:

Authority: Sec. 205(c), 63 Stat. 390 (40 U.S.C. 486(c)); sec. 515, 91 Stat. 862 (5 U.S.C. 7342).

§ 102-42.10 [Amended]

2. Section 102-42.10 is amended in the introductory text of the definition Minimal value by removing “$260” and adding “$285” in its place.

3. Section 102-42.140 is revised to read as follows:

§ 102-42.140 How is a sale of a foreign gift or decoration to an employee conducted?

Foreign gifts and decorations must be offered first through negotiated sales to the employee who has indicated an interest in purchasing the item. The sale price must be the commercially appraised value of the gift. Sales must be conducted and documented in accordance with part 101-45 of this title.

Dated: August 23, 2002.
Stephen A. Perry,
Administrator of General Services.

[FR Doc. 02-22444 Filed 9-3-02; 8:45 am]

BILLING CODE 6820-23-P